DEPARTMENT OF AGRICULTURE

Cooperative State Research, Education, and Extension Service

Solicitation of Input From Stakeholders Regarding Implementation of the Veterinary Medicine Loan Repayment Program (VMLRP)

AGENCY: Cooperative State Research, Education, and Extension Service, USDA.

ACTION: Notice of public meeting and request for stakeholder input.

SUMMARY: The Cooperative State Research, Education, and Extension Service (CSREES) is soliciting stakeholder input on the implementation of the Veterinary Medicine Loan Repayment Program (VMLRP), which is authorized under section 1415A of the National Agricultural Research, Extension, and Teaching Policy Act of 1977 (7 U.S.C. 3151a). The purpose of this program is for the U.S. Department of Agriculture (USDA) to enter into agreements with veterinarians under which the veterinarians agree to provide, for a specific period of time as identified in the agreement, veterinary services in veterinarian shortage situations. As part of the stakeholder input process, CSREES is conducting a public meeting to solicit comments regarding the implementing regulations to be developed for this program.

DATES: The meeting will be held on Monday, September 15, 2008, from 9 a.m. to 3:30 p.m. All comments must be received by close of business Tuesday, September 30, 2008, to be considered.

ADDRESSES: The meeting will be held in room 1410B-C-D of the Waterfront Centre Building, Cooperative State Research, Education, and Extension Service, United States Department of Agriculture, 800 9th St., SW., Washington, DC 20024. Meeting participants will need to provide photo identification to be admitted to the building. Please allow sufficient time to go through security. You may submit comments, identified by CSREES-2008-0001, by any of the following methods:

Federal eRulemaking Portal: http://www.regulations.gov. Follow the instructions for submitting comments.

E-mail: vmlrp@csrees.usda.gov. Include CSREES-2008-0001 in the subject line of the message.

Fax: 202-401-6156.

Mail: Paper, disk or CD-ROM submissions should be submitted to VMLRP, Plant and Animal Systems (PAS) Unit, Cooperative State Research, Education, and Extension Service, U.S. Department of Agriculture; STOP 2220, 1400 Independence Avenue, SW., Washington, DC 20250-2220.

Hand Delivery/Courier: VMLRP; Plant and Animal Systems (PAS) Unit, Cooperative State Research, Education, and Extension Service, U.S. Department of Agriculture, Room 3153, Waterfront Centre, 800 9th Street, SW., Washington, DC 20024.

Instructions: All submissions received must include the agency name and CSREES-2008-0001. All comments received will be posted to http://www.regulations.gov, including any personal information provided.

FOR FURTHER INFORMATION CONTACT: Ms. Lisa Stephens, (202) 401-6438, or lstephens@csrees.usda.gov.

SUPPLEMENTARY INFORMATION:

Additional Meeting and Comment Procedures

Because of the diversity of subjects, and to aid participants in scheduling their attendance, the following schedule is anticipated for the September 15, 2008, meeting:

9-9:30 a.m.—Introduction to VMLRP.

9:30-12 p.m.—Identification and prioritization of veterinarian shortage situations (e.g., geographically and by expertise).

1-3:30 p.m.—Administration of the VMLRP including eligible applicant criteria; number, size, and length of VMLRP agreements; solicitation for VMLRP applications; application prioritization and review; execution of VMLRP agreements, including service to the Federal government in emergency situations; agreement terms and conditions; reimbursement for tax liability; and monitoring and oversight of VMLRP agreements.

Persons wishing to present oral comments at this meeting are requested to pre-register by contacting Ms. Lisa Stephens at (202) 401-6438, by fax at (202) 401-6156 or by e-mail to lstephens@csrees.usda.gov. Participants may reserve one 5-minute comment period per topic area, and should indicate the topic area(s) for which they are registering (i.e., identification of veterinarian shortage situations and/or administration of the VMLRP). For any participant who may require only one 5-minute period to fully present testimony regarding both topic areas, the participant should indicate this intention and may reserve their 5-minute comment period under one of the two topic areas. More time may be available, depending on the number of people wishing to make a presentation and the time needed for questions following presentations. Reservations will be confirmed on a first-come, first-served basis. All other attendees may register at the meeting. Written comments may also be submitted for the record at the meeting. All comments must be received by close of business Tuesday, September 30, 2008, to be considered. All comments and the official transcript of the meeting, when they become available, may be reviewed on the CSREES Web page for six months. Participants who require a sign language interpreter or other special accommodations should contact Ms. Stephens as directed above.

Background and Purpose

In December, 2003, the National Veterinary Medical Service Act (NVMSA) was passed into law adding section 1415a to the National Agricultural Research, Extension, and Teaching Policy Act of 1977 (NARETPA). This law established a new Veterinary Medicine Loan Repayment Program (7 U.S.C. 3151a) authorizing the Secretary of Agriculture (secretary) to carry out a program of entering into agreements with veterinarians under which they agree to provide veterinary services in veterinarian shortage situations. In November 2005, the Agriculture, Rural Development, Food and Drug Administration, and Related Agencies Appropriations Act, 2006 (Pub. L. 109-97), appropriated $495,000 (after the 1 percent rescission) for CSREES to implement the Veterinary Medicine Loan Repayment Program and represented the first time funds had been appropriated for this program. In February 2007, the Revised Continuing Appropriations Resolution, 2007 (Pub. L. 110-5), appropriated an additional $495,000 to CSREES for support of the program, and in December 2007, the Consolidated Appropriations Act, 2008 (Pub. L. 110-161), appropriated an additional $868,875 (after the .7 percent rescission) to CSREES for support of this program. Consequently, there is approximately $1.8 million available for CSREES to administer this program.

As enacted on June 18, 2008, section 7105 of the Food, Conservation, and Energy Act of 2008 (FCEA) amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

Section 1415A of the NARETPA requires the Secretary, when determining the amount of repayment for a year of service by a veterinarian, to consider the extent to which such determination affects the ability of USDA to maximize the number of agreements from the amounts appropriated and provides an incentive to serve in veterinary service shortage areas with the greatest need. This section also provides that loan repayments may consist of payments of the principal and interest on government and commercial loans received by the individual for the attendance of the individual at an accredited college of veterinary medicine resulting in a degree of Doctor of Veterinary Medicine or the equivalent. Loans eligible for repayment include loans for tuition expenses; other reasonable educational expenses, including fees, books, and laboratory expenses, incurred by the individual; or reasonable living expenses as determined by the Secretary. In addition, the Secretary is directed to make such additional payments to participants as the Secretary determines appropriate for the purpose of providing reimbursements to participants for individual tax liability resulting from participation in this program. Finally, this section requires USDA to promulgate regulations within 270 days of the enactment of FCEA. The Secretary delegated the authority to carry out this program to CSREES.

CSREES is holding a public meeting to obtain comments to use in developing the proposed regulations for the VMLRP. The meeting is open to the public. Written comments and suggestions on issues that may be considered during the meeting may be submitted to the CSREES Docket Clerk at the address above.

Implementation Plans

To meet the legislatively-mandated date to promulgate regulations (i.e., within 270 days of enactment or March 14, 2009), CSREES plans to promulgate two regulations: Determination of Veterinary Shortage Situations for the Veterinary Medicine Loan Repayment Program; and Veterinary Medicine Loan Repayment Program (VMLRP)—Administrative Provisions. CSREES plans to release a Solicitation for VMLRP Applications by May 31, 2009.

Done at Washington, DC, this 26th day of August 2008.
Colien Hefferan,
Administrator, Cooperative State Research, Education, and Extension Service.

[FR Doc. E8-20144 Filed 8-28-08; 8:45 am]

BILLING CODE 3410-22-P